DEPARTMENT OF THE INTERIOR

Bureau of Land Management

[LLNVS00560 L58530000 EU0000 241A; N-90450; 12-08807; MO# 4500032437; TAS: 14X5232]

Notice of Realty Action: Modified Competitive, Sealed-Bid Sale of Public Land in Clark County, NV

AGENCY: Bureau of Land Management, Interior.

ACTION: Notice of Realty Action.

SUMMARY: The Bureau of Land Management (BLM) proposes to offer by modified competitive, sealed-bid sale, one parcel of public land totaling approximately 480 acres in the Las Vegas Valley at not less than the appraised fair market value (FMV) of $10,560,000. The parcel will be offered in a sale pursuant to the Southern Nevada Public Land Management Act of 1998 (SNPLMA), Public Law 105-263, 112 Stat. 2343, as amended. The sale will be subject to the applicable provisions of Sections 203 of the Federal Land Policy and Management Act of 1976 (FLPMA), 43 U.S.C 1713, and BLM land sale regulations at 43 CFR 2710.

DATES: Interested parties may submit written comments regarding the proposed sale and the environmental assessment (EA) until May 21, 2012.

Sealed bids may be mailed or delivered to the BLM Las Vegas Field Office, at the address below, beginning May 21, 2012. Sealed bids must be received by the BLM Las Vegas Field Office no later than 4:30 p.m. Pacific Time, June 4, 2012 in accordance with the sale procedures. The BLM will open the sealed bids on June 4, 2012 at the BLM Las Vegas Field Office at 10 a.m., Pacific Time.

ADDRESSES: Mail written comments to, refer questions about, or submit sealed bids to the BLM, Las Vegas Field Office Assistant Field Manager, 4701 N. Torrey Pines Drive, Las Vegas, NV 89130.

FOR FURTHER INFORMATION CONTACT: Manuela Johnson at email: manuela_johnson@blm.gov or telephone: 702-515-5224. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The parcel proposed for sale is located in the southwestern area of the City of Henderson, Nevada. It is currently encumbered by an authorized road, water pipeline, flood control facilities, and relinquished Nevada Department of Transportation mineral material site right-of-way. The subject public land is described as:

Mount Diablo Meridian

T. 23 S., R. 61 E.,

Sec. 21, N½;

Sec. 22, NW¼.

The area described contains 480 acres, more or less, in Clark County.

The map delineating the proposed sale parcel is available for public review at the BLM Las Vegas Field Office at the address above.

The general area of which encompasses this parcel was analyzed for future sale in the Las Vegas Valley Disposal Boundary Environmental Impact Statement (EIS), approved by Record of Decision on December 23, 2004. The proposed sale parcel N-90450, is being analyzed in a site specific environmental assessment number DOI-BLM-NV-S010-2012-0017-EA. Upon publication of this notice, the EA is available at the BLM Las Vegas Field Office for public review and comments. Only written comments submitted within 45 days from publication of this notice will be considered properly filed. Submit comments at the address in the ADDRESSES section. Before including your address, phone number, email address, or other personal identifying information in your comment, you should be aware that your entire comment—including any personal identifying information—may be made publicly available at any time. While you can ask us in your comment to withhold your personal identifying information from public review, we cannot guarantee that we will be able to do so.

This proposed modified competitive, sealed-bid sale is in conformance with the BLM Las Vegas Resource Management Plan (RMP), approved by Record of Decision on October 5, 1998. More specifically, the proposed action conforms to the RMP decision LD-1, which provides that “Approximately 175,314 acres of public lands within the disposal areas identified on Map 2-3 are potentially available for disposal through sale, exchange, or Recreation and Public Purpose patent to provide for the orderly expansion and development of southern Nevada.”

The property was proposed for sale pursuant to the SNPLMA, when the parcel was nominated by the City of Henderson to provide for community expansion and private uses consistent with City planning. Further, the City of Henderson has requested consideration for Silver State Land LLC, a Delaware limited liability company, as the designated bidder for this property. Silver State Land LLC and the City of Henderson have developed an agreement that provides for long-term public benefits to the City and local residents. Through collaboration and partnership with the City of Henderson, Silver State Land LLC agrees to develop the property for public recreation and commercial uses approved by the City of Henderson. Silver State Land LLC proposes to build enclosed, covered stadiums to create a distinctive sports venue and mixed-use facilities. The project would provide an economic diversification for southern Nevada and is proposed to be a national and international sports complex.

After considering the City of Henderson's request, the BLM determined that a modified competitive, sealed-bid sale will be the appropriate method for disposal of this parcel. The use of the modified competitive, sealed-bid sale method is consistent with regulations at 43 CFR 2711.3-2(a). Public lands may be offered for sale utilizing modified competitive bidding procedures when the authorized officer determines it is necessary in order to assure equitable distribution of land among purchasers or to recognize equitable considerations or public policies. Under the modified competitive bidding procedure provided in 43 CFR 2711.3-2(a)(1)(i), a designated bidder is offered the right to meet the highest bid. Refusal or failure to meet the highest bid shall constitute a waiver of the modified competitive bidding procedure for this proposed sale. For this sale, Silver State Land LLC will be the designated bidder.

Sale procedures: To participate in the modified competitive, sealed-bid sale each bidder, including the designated bidder, must submit a bid guarantee deposit in the amount of $20,000 by certified check, postal money order, bank draft, or cashier's check made payable to the DOI-Bureau of Land Management, in addition to the percentage of the sealed bid amount as described below. Personal or company checks will not be accepted. Sealed bids for the sale must also include a certified check, postal money order, bank draft, or cashier's check made payable to the DOI-Bureau of Land Management in an amount not less than 20 percent of the total amount bid. For your convenience, this bid deposit amount and the bid guarantee may be combined into one form of deposit. These two payments must specify what amount goes towards the bid deposit and the bid guarantee. Sealed bid envelopes must be clearly marked on the front lower left corner with “Sealed Bid, BLM Land Sale, N-90450.” The sealed bid envelope must contain the $20,000 bid guarantee, the 20 percent bid deposit, and the completed BLM form, “Certificate of Eligibility,” stating the name, mailing address, and telephone number of the entity or person submitting the bid. Certificate of Eligibility forms are available at the BLM Las Vegas Field Office at the address listed above and on the BLM Web site at: http://www.blm.gov/nv/st/en/snplma/Land_Auctions.html. Sealed bids will be opened and recorded to determine the high bidder on June 4, 2012. The high bid among the qualified bids received will be declared.

Silver State Land LLC or their authorized representative must be present at the bid opening. Should the Silver State Land LLC appoint an authorized representative for this sale, they must provide a written, notarized, and lawfully executed document specifying the level of capacity given to the representative. The document must be signed by both Silver State Land LLC and its representative. Silver State Land LLC or its representative will have the opportunity at the bid opening to meet and accept the high bid as the purchase price. Should the Silver State Land LLC or its representative refuse to meet the declared high bid, that bidder will be declared the successful bidder in accordance with the regulations at 43 CFR 2711.3-2(c). Acceptance or rejection of any offer to purchase will be in accordance with the regulations at 43 CFR 2711.3-1(f) and (g).

All funds submitted with unsuccessful bids will be returned to the bidders or their authorized representative upon presentation of acceptable photo identification at the address above, or will be returned by certified mail. The successful bidder may elect a refund of the $20,000 bid guarantee, or may elect to apply it toward the final purchase price. The successful bidder will be allowed 180 calendar days from the date of the sale to submit the remainder of the full purchase price.

Within 30 days of the sale, the BLM will, in writing, either accept or reject all bids received. No contractual or other rights against the United States may accrue until the BLM authorized officer officially accepts the high bid offer to purchase and the full bid price is paid.

If there are no acceptable bids, the parcel may remain available for sale at a future date in accordance with competitive sale procedures without further notice.

Federal law requires that qualified bidders must be (a) a citizen of the United States 18 years of age or older; (b) A corporation subject to the laws of any State or of the United States; (c) A State, State instrumentality, or political subdivision authorized to hold real property; and (d) An entity legally capable of conveying and holding lands or interests therein under the laws of the State within which the lands to be conveyed are located. Where applicable, the entity shall also meet the requirements of (a) and (b) of this paragraph. United States citizenship is evidenced by presenting a birth certificate, passport, or naturalization papers. Failure to submit the appropriate documents to the BLM within 30 days from receipt of the high-bidder letter shall result in cancellation of the sale and forfeiture of the bid deposit.

Terms and Conditions: All minerals for the parcel will be reserved to the United States in accordance with the BLM's approved Mineral Potential Report, dated January 22, 1999. Information pertaining to the reservation of minerals specific to the parcel is located in case file N-90450 and is available for public review at the BLM Las Vegas Field Office at the address listed.

The patent, when issued for sale parcel N-90450, will contain a mineral reservation to the United States.

The parcel is subject to limitations prescribed by law and regulation, and certain encumbrances in favor of third parties. Prior to patent issuance, a holder of any right-of-way within the parcel will be given the opportunity to amend the right-of-way for conversion to a new term, including perpetuity, if applicable, or conversion to an easement. The BLM will notify valid existing right-of-way holders of record of their ability to convert their compliant rights-of-way to perpetual rights-of-way or easements. In accordance with Federal regulations at 43 CFR 2807.15, once notified, each valid holder may apply for the conversion of their current authorization.

The following numbered terms, conditions, and reservations will appear on the conveyance document for this parcel:

1. All mineral deposits in the lands so patented, and to it, or persons authorized by it, the right to prospect for, mine, and remove such deposits from the same under applicable law and regulations to be established by the Secretary of the Interior are reserved to the United States, together with all necessary access and exit rights;

2. A right-of-way is reserved for ditches and canals constructed by authority of the United States under the Act of August 30, 1890 (43 U.S.C. 945);

3. The parcel is subject to valid existing rights;

4. The parcel is subject to reservations for road, public utilities and flood control purposes, both existing and proposed, in accordance with the local governing entities' plans;

5. Right-of-way N-78907 for water pipeline purposes granted to Las Vegas Valley Water District, its successors or assigns pursuant to the Act of October 21, 1976 (43 U.S.C. 1761);

6. Right-of-way N-80146 for road purposes granted to the City of Henderson, its successors or assigns, pursuant to the Act of October 21, 1976 (43 U.S.C. 1761);

7. Right-of-way N-80147 for drainage facility purposes granted to the City of Henderson, its successors or assigns, pursuant to the Act of October 21, 1976 (43 U.S.C. 1761); and

8. By accepting this patent, the patentee agrees to indemnify, defend and hold the United States harmless from any costs, damages, claims, causes of action, penalties, fines, liabilities, and judgments of any kind or nature arising from the past, present, and future acts or omissions of the patentee, its employees, agents, contractors, or lessees, or any third-party, arising out of, or in connection with, the patentee's use, occupancy, or operations on the patented real property. This indemnification and hold harmless agreement includes, but is not limited to, acts and omissions of the patentee, its employees, agents, contractors, or lessees, or third party arising out of or in connection with the use and/or occupancy of the patented real property resulting in: (1) Violations of Federal, State, and local laws and regulations applicable to the real property; (2) Judgments, claims or demands of any kind assessed against the United States; (3) Costs, expenses, damages of any kind incurred by the United States; (4) Other releases or threatened releases on, into or under land, property and other interests of the United States by solid or hazardous waste(s) and/or hazardous substances(s), as defined by Federal or State environmental laws; (5) Other activities by which solid or hazardous substances or wastes, as defined by Federal and State environmental laws were generated, released, stored, used or otherwise disposed of on the patented real property, and any cleanup response, remedial action, or other actions related in any manner to said solid or hazardous substances or wastes; or (6) natural resource damages as defined by Federal and State law. This covenant shall be construed as running with the patented real property, and may be enforced by the United States in a court of competent jurisdiction; and;

9. Pursuant to the requirements established by Section 120(h) of the Comprehensive Environmental Response, Compensation and Liability Act, 42 U.S.C. 9620(h) (CERCLA), as amended by the Superfund Amendments and Reauthorization Act of 1988, 100 Stat. 1670, notice is hereby given that the described lands have been examined and no evidence was found to indicate that any hazardous substances have been stored for one year or more, nor had any hazardous substances been disposed of or released on the subject property.

No warranty of any kind, express or implied, is given by the United States as to the title, whether or to what extent the land may be developed, its physical condition, future uses, or any other circumstance or condition. The conveyance of this parcel will not be on a contingency basis. However, to the extent required by law, the parcel is subject to the requirements of Section 120(h) of the CERCLA.

Unless other satisfactory arrangements are approved in advance by the BLM authorized officer, conveyance of title shall be through the use of escrow. Designation of the escrow agent shall be through mutual agreement between the BLM and the prospective patentee, and costs of escrow shall be borne by the prospective patentee. Requests for all escrow instructions must be received by the BLM Las Vegas Field Office prior to 30 days before the prospective patentee's scheduled closing date. There are no exceptions.

No contractual or other rights against the United States may accrue until the BLM officially accepts the offer to purchase, and the full bid price is submitted by the 180th day following the sale.

All name changes and supporting documentation must be received no later than close of business at 4:30 p.m. Pacific Time at the BLM Las Vegas Field Office, at the address above, 30 days from the date on the written notification of acceptance of the high bid. Name changes will not be accepted after that date. To submit a name change, the high bidder must submit the name change in writing on the Certificate of Eligibility form to the BLM Las Vegas Field Office.

The remainder of the full bid price for the parcel must be received no later than 4:30 p.m., Pacific Time, within 180 days following the day of the sale. Payment must be submitted in the form of a certified check, U.S. postal money order, bank draft, cashier's check, or made available by electronic fund transfer made payable in U.S. dollars to the “Department of the Interior—Bureau of Land Management” to the BLM Las Vegas Field Office, at the address listed above. Personal or company checks will not be accepted.

Arrangements for electronic fund transfer to BLM for payment of the balance due must be made a minimum of 2 weeks prior to the payment date. Failure to pay the full bid price prior to the expiration of the 180th day will disqualify the apparent high bidder and cause the entire 20 percent bid deposit to be forfeited to the BLM. Forfeiture of the 20 percent bid deposit is in accordance with 43 CFR 2711.3-1(d). No exceptions will be made.

The BLM will not sign any documents related to 1031 Exchange transactions. The timing for completion of an exchange is the bidder's responsibility. The BLM cannot be a party to any 1031 Exchange.

In accordance with 43 CFR 2711.3-1(f), the BLM may accept or reject any or all offers to purchase, or withdraw any parcel of land or interest therein from sale, if, in the opinion of a BLM authorized officer, consummation of the sale would be inconsistent with any law, or for other reasons as may be provided by applicable law or regulations.

Upon publication of this notice and until completion of the sale, the BLM is no longer accepting land use applications affecting the parcel identified for sale. However, land use applications may be considered after the date of the auction offering if the parcel is not sold. Encumbrances of record that may appear in the BLM public files for the parcel proposed for sale are available for review during business hours, 7:30 a.m. to 4:30 p.m., Pacific Time, Monday through Friday, at the BLM Las Vegas Field Office, except during federally recognized holidays.

In order to determine the FMV through appraisal, certain extraordinary assumptions and hypothetical conditions may have been made concerning the attributes and limitations of the lands and potential effects of local regulations and policies on potential future land uses. Through publication of this notice, the BLM advises that these assumptions may not be endorsed or approved by units of local government. It is the buyer's responsibility to be aware of all applicable Federal, State, and local government laws, regulations and policies that may affect the subject lands, including any required dedication of lands for public uses. It is also the buyer's responsibility to be aware of existing or prospective uses of nearby properties. When conveyed out of Federal ownership, the lands will be subject to any applicable laws, regulations, and policies of the applicable local government for proposed future uses. It will be the responsibility of the purchaser to be aware through due diligence of those laws, regulations, and policies, and to seek any required local approvals for future uses. Buyers should also make themselves aware of any Federal or State law or regulation that may impact the future use of the property. Any land lacking access from a public road or highway will be conveyed as such, and future access acquisition will be the responsibility of the buyer.

Information concerning the sale, appraisals, reservations, procedures and conditions, CERCLA, and other environmental documents are available for review at the BLM Las Vegas Field Office at the address in the ADDRESSES section.

Any adverse comments regarding the proposed sale will be reviewed by the BLM Nevada State Director or other authorized official of the Department of the Interior who may sustain, vacate, or modify this realty action. In the absence of any adverse comments, this realty action will become the final determination of the Department of the Interior.

Authority: 43 CFR 2711.1-2.

Vanessa L. Hice,
Assistant Field Manager, Division of Lands.

[FR Doc. 2012-8097 Filed 3-30-12; 4:15 pm]

BILLING CODE 4310-HC-P